DEPARTMENT OF EDUCATION

[CFDA No.: 84.330]

Office of Elementary and Secondary Education—Advanced Placement Incentive Program; Notice Inviting Applications for New Awards for Fiscal Year (FY) 2000

Purpose of Program: The Advanced Placement Incentive Program provides grants to States, including consortia of States, to enable them to pay advanced placement test fees on behalf of eligible low-income individuals, and to undertake activities designed to increase the participation of low-income students in advanced placement courses and tests. For FY 2000, we encourage applicants to design projects that meet the invitational priority in the PRIORITIES section of this application notice.

Eligible Applicants: State educational agencies (SEAs) in any State, including the District of Columbia, the Commonwealth of Puerto Rico, the Virgin Islands, Guam, American Samoa, the Northern Mariana Islands, the Republic of the Marshall Islands, the Federated States of Micronesia, and the Republic of Palau.

Deadline for Transmittal of Applications: March 27, 2000.

Deadline for Intergovernmental Review: April 26, 2000.

Applications Available: February 10, 2000.

Estimated Available Funds: $15,000,000.

Estimated Range of Awards: $50,000 to $1,200,000 per year.

Estimated Average Size of Awards: $375,000 per year.

Estimated Number of Awards: 40.

Note: These estimates are projections for the guidance of potential applicants. The Department is not bound by any estimates in this notice.

Project Period: Up to 36 months.

Allowable Activities

States receiving grants under this program may use the grant funds to pay part or all of the cost of advanced placement test fees for low-income individuals who (1) are enrolled in an advanced placement class; and (2) plan to take an advanced placement test. In addition, SEAs in States in which no eligible low-income individual is required to pay more than a nominal fee to take advanced placement tests in core subjects may use grant funds for activities directly related to increasing (a) the enrollment of low-income individuals in advanced placement courses; (b) the participation of low-income individuals in advanced placement tests; and (c) the availability of advanced placement courses in schools serving high-poverty areas (hereinafter referred to as “section 810(d)(1) activities”). Examples of section 810(d)(1) activities may include, but are not limited to, projects that provide student access to advanced placement courses online, and professional development institutes designed to prepare teachers to teach advanced placement courses. An SEA may apply for funds under this program both to assist it in meeting the requirement that no eligible low-income student in the State be required to pay more than a nominal fee to take advanced placement tests in core subjects and for section 810(d)(1) activities.

Priorities

(a) Absolute Priority. The Department is establishing an absolute priority for proposals to use grant funds to pay advanced placement test fees on behalf of eligible low-income individuals. We have chosen this priority from the allowable activities specified in the program statute (see 34 CFR 75.105(b)(2)(v) and section 810(a) of Title VIII, Part B of the Higher Education Amendments of 1998 (20 U.S.C. 1070a-11, note)).

To implement this priority, the Department intends to fund, at some level, all applications (1) meeting the minimum REQUIREMENTS FOR APPROVAL OF APPLICATIONS described in the application package; and (2) proposing to use grant funds for the purpose of paying part or all of the cost of advanced placement test fees on behalf of eligible low-income individuals in the State. For applications that propose to use grant funds to pay advanced placement test fees and to support section 810(d)(1) activities, the section of the application proposing to use grant funds for section 810(d)(1) activities will be evaluated based on the SELECTION CRITERIA described in the application package (see 34 CFR 75.105(c)(3)).

(b) Invitational Priority. The Department is particularly interested in applications from consortia, or groups, of States to undertake section 810(d)(1) activities. The consortium may be comprised of SEAs from any combination of States. Under 34 CFR 75.105(c)(1), the Department does not give an application that meets this invitational priority a competitive or absolute preference over applications that do not meet the invitational priority.

Allocation of Funds

The Department intends to allocate approximately $4 million of the funds available under this program to States for the purpose of paying advanced placement test fees on behalf of eligible low-income individuals. The Department intends to allocate approximately $11 million to States to support section 810(d)(1) activities. In determining grant award amounts, the Department will consider, among other things, the number of children in the State eligible to be counted under section 1124(c) of the Elementary and Secondary Education Act of 1965, in relation to the number of such children in all States.

Selection Criteria

The Secretary uses the selection criteria published in 34 CFR 75.209 and 75.210 to evaluate the section of the application that proposes to use grant funds to support section 810(d)(1) activities. The application package includes the SELECTION CRITERIA and the points assigned to each criterion.

Applicable Regulations and Statute

The Education Department General Administrative Regulations (EDGAR) in 34 CFR Parts 75, 77, 79, 80, 81, 82, 85, 86, and 99. Title VIII, Part B of the Higher Education Amendments of 1998 (1998 Amendments), 20 U.S.C. 1070a-11, note.

The following definitions and other provisions are taken from the Advanced Placement Incentive Program authorizing statute, in Title VIII, Part B of the 1998 Amendments. They are repeated in this application notice for the convenience of the applicant.

Definitions

As used in this section:

(a) The term advanced placement test includes only an advanced placement test approved by the Secretary of Education for the purposes of this program.

Note: To date, the Secretary has approved advanced placement tests administered by The College Board and International Baccalaureate Organisation. As part of the grant application process, applicants may request approval of tests from other educational entities that provide comparable programs of rigorous academic courses and testing through which students may earn college credit.

(b) The term low-income individual has the meaning given the term in section 402A(g)(2) of the Higher Education Act of 1965 (HEA) (20 U.S.C. 1070a-11(g)(2)).

Note: Under section 402A(g)(2) of the HEA, the term low-income individual means an individual from a family whose taxable income for the preceding year did not exceed 150 percent of an amount equal to the poverty level determined by using criteria of poverty established by the Bureau of the Census (20 U.S.C. 1070a-11(g)(2)).

Information Dissemination

The SEA shall disseminate information regarding the availability of test fee payments under this program to eligible individuals through secondary school teachers and guidance counselors (20 U.S.C. 1070a-11, note (b)).

Supplement, Not Supplant, Rule

Funds provided under this program must be used to supplement and not supplant other non-Federal funds that are available to assist low-income individuals in paying advanced placement test fees (20 U.S.C. 1070a-11, note (d)(2)).

For Applications or Information Contact: Frank B. Robinson, U.S. Department of Education, School Improvement Programs, 400 Maryland Avenue, SW., Room 3C153, Washington, DC 20202-6140. Telephone (202) 260-2669. Internet address: frank—robinson@ed.gov

Individuals who use a telecommunications device for the deaf (TDD) may call the Federal Information Relay Service (FIRS) at 1-800-877-8339 between 8 a.m. and 8 p.m., Eastern time, Monday through Friday.

Individuals with disabilities may obtain this document in an alternate format (e.g., Braille, large print, audiotape, or computer diskette) upon request to the contact person listed in the preceding paragraph. Individuals with disabilities may obtain a copy of the application package in an alternate format, also, by contacting that person. However, the Department is not able to reproduce in an alternate format the standard forms included in the application package.

Electronic Access to This Document

You may view this document, as well as all other Department of Education documents published in the Federal Register, in text or Adobe Portable Document Format (PDF) on the Internet at either of the following sites:

http://ocfo.ed.gov/fedreg.htm

http://www.ed.gov/news.html

To use the PDF, you must have the Adobe Acrobat Reader Program with Search, which is available free at either of the previous sites. If you have questions about using the PDF, call the U.S. Government Printing Office toll free at 1-888-293-6498; or in the Washington, DC area at (202) 512-1530.

Note: The official version of a document is the document published in the Federal Register. Free Internet access to the official edition of the Federal Register and the Code of Federal Regulations is available on GPO Access at: http://www.access.gpo.gov/nara/index.html

Program Authority: 20 U.S.C. 1070a-11, note.

Dated: February 7, 2000.
Michael Cohen,
Assistant Secretary for Elementary and Secondary Education.

[FR Doc. 00-3090 Filed 2-9-00; 8:45 am]

BILLING CODE 4000-01-P